DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 23, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on July 1, 2020.
Donald P. Burger,
Chief, General Approvals and Permits Branch.

Special Permits Data
Application No. | Applicant | Regulation(s) affected | Nature of the special permits thereof
13250-M | Pacific Consolidated Industries LLC | 173.302a(a)(1), 173.304a(a)(1) | To modify the special permit to authorize an extension of cylinder life utilizing the Modal Acoustic Emission (MAE) test method. (modes 1, 2, 3, 4, 5)
14509-M | Pacific Consolidated Industries LLC | 173.302(a), 173.302(f)(3), 173.302(f)(4), 173.302(f)(5), 173.304(a), 175.501(e)(3) | To modify the special permit to authorize an extension of cylinder life utilizing the Modal Acoustic Emission (MAE) test method. (modes 1, 2, 3, 4, 5)
15347-M | Raytheon Company | 173.301, 173.302a | To modify the special permit to authorize passenger carrying aircraft as a mode of transportation. (modes 1, 2, 3, 4)
15821-M | Circor Instrumentation Technologies, Inc | 173.301(a), 173.302a, 173.304a | To modify the special permit to update the cylinder specification drawings and add a 150 cc cylinder. (modes 1, 2, 3)
20245-M | Jaguar Instruments Inc | 173.302(a), 173.304(a) | To modify the special permit to update reporting procedure, update cylinder design drawings and incorporate ICAO references to the permit. (modes 1, 2, 3, 4)
20549-M | Cellblock Fcs, LLC | 172.400, 172.700(a), 172.102(c)(1), 172.200, 172.300 | To modify the special permit to authorize an increase in the maximum watt hour rating up to 1000 for shipping ever larger damaged or defective lithium batteries. (modes 1, 2, 3)
20904-M | Piston Automotive, LLC | 172.101(j) | To modify the special permit to authorize a change to the packaging of the battery assembly. (mode 4)
20907-M | Versum Materials, Inc | 171.23(a), 171.23(a)(3) | To modify the special permit to authorize shipment of up to 60 cylinders a month. (modes 1, 3)
20973-M | Olin Winchester LLC | 172.203(a), 173.63(b)(2)(v) | To modify the special permit to remove the requirement for carrying a copy of the permit on each vessel, aircraft or motor vehicle transporting packages covered by the permit. (modes 1, 2, 3, 4, 5)
20989-M | DGM Italia SRL | 173.56(b), 173.185(a) | To modify the special permit to authorize the use of ATA 300 specification packaging. (modes 1, 4)

[FR Doc. 2020-14619 Filed 7-7-20; 8:45 am]

BILLING CODE P